DEPARTMENT OF DEFENSE

48 CFR Part 241

[DFARS Case 99-D309]

Defense Federal Acquisition Regulation Supplement; Authority Relating to Utility Privatilization

AGENCY: Department of Defense (DoD).

ACTION: Final rule.

SUMMARY: The Acting Director of Defense Procurement is adopting as final, without change, an interim rule amending the Defense Federal Acquisition Regulation Supplement (DFARS) to implement Section 2812 of the National Defense Authorization Act for Fiscal Year 2000. Section 2812 provides that DoD may enter into utility service contracts related to the conveyance of a utility system for periods not to exceed 50 years.

EFFECTIVE DATE: May 22, 2000.

FOR FURTHER INFORMATION CONTACT: Ms. Melissa Rider, Defense Acquisition Regulations Council, PDUSD (AT&L) DP (DAR), IMD 3D139, 3062 Defense Pentagon, Washington, DC 20301-3062. Telephone (703) 602-4245; telefax (703) 602-0350. Please cite DFARS Case 99-D309.

SUPPLEMENTARY INFORMATION:

A. Background

DoD published an interim rule at 65 FR 2058 on January 13, 2000. The rule added a new section at DFARS 241.103 to implement Section 2812 of the National Defense Authorization Act for Fiscal Year 2000 (Public Law 106-65). Section 2812 amended 10 U.S.C. 2688 to provide authority for DoD to enter into utility service contracts related to the conveyance of a utility system for periods not to exceed 50 years. DoD received no public comments on the interim rule. The interim rule is converted to a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because utility services generally are not provided by small business concerns.

C. Paperwork Reduction Act

The Paperwork Reduction Act does not apply because the rule does not impose any information collection requirements that require the approval of the Office of Management and Budget under 44 U.S.C. 3501, et seq.

List of Subjects in 48 CFR Part 241

Government procurement.

Michele P. Peterson,
Executive Editor, Defense Acquisition Regulations Council.

Interim Rule Adopted as Final Without Change

Accordingly, the interim rule amending 48 CFR part 241, which was published at 65 FR 2058 on January 13, 2000, is adopted as a final rule without change.

[FR Doc. 00-12418 Filed 5-19-00; 8:45 am]

BILLING CODE 5000-04-M